DEPARTMENT OF LABOR

Employment and Training Administration

[TA-W-56,372]

Dystar LP, Charlotte, North Carolina; Dismissal of Application for Reconsideration

Pursuant to 29 CFR 90.18(C) an application for administrative reconsideration was filed with the Director of the Division of Trade Adjustment Assistance for workers at DyStar LP, Charlotte, North Carolina. The application contained no new substantial information which would bear importantly on the Department's determination. Therefore, dismissal of the application was issued.

TA-W-56,372; DyStar LP, Charlotte, North Carolina (April 20, 2005)

Signed at Washington, DC this 21st day of April 2005.
Timothy Sullivan,
Director, Division of Trade Adjustment Assistance.

[FR Doc. E5-2084 Filed 4-29-05; 8:45 am]

BILLING CODE 4510-30-P